DEPARTMENT OF COMMERCE

National Oceanic and Atmospheric Administration

RIN 0648-XA068

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene a public meeting of the Florida/Alabama Habitat Protection Advisory Panel (AP).

DATES: The meeting will convene at 3 p.m. Central Time on Friday, December 17, 2010 and conclude no later than 4 p.m.

ADDRESSES: This meeting will be held via conference call. To listen to the teleconference call (1-888) 450-5996. At the prompt enter passcode 6273501.

Council address: Gulf of Mexico Fishery Management Council, 2203 North Lois Avenue, Suite 1100, Tampa, FL 33607.

FOR FURTHER INFORMATION CONTACT: Jeff Rester, Habitat Support Specialist, Gulf States Marine Fisheries Commission; telephone: (228) 875-5912.

SUPPLEMENTARY INFORMATION: At this meeting, the only item on the agenda is for the AP to review the Council's Essential Fish Habitat 5-Year Review Report.

The Florida/Alabama group is part of a three unit Habitat Protection Advisory Panel (AP) of the Gulf of Mexico Fishery Management Council. The principal role of the advisory panels is to assist the Council in attempting to maintain optimum conditions within the habitat and ecosystems supporting the marine resources of the Gulf of Mexico. Advisory panels serve as a first alert system to call to the Council's attention proposed projects being developed and other activities that may adversely impact the Gulf marine fisheries and their supporting ecosystems. The panels may also provide advice to the Council on its policies and procedures for addressing environmental affairs.

Although other issues not on the agenda may come before the panel for discussion, in accordance with the Magnuson-Stevens Fishery Conservation and Management Act, those issues may not be the subject of formal panel action during this meeting. Panel action will be restricted to those issues specifically identified in the agenda listed as available by this notice.

For more information about the meeting, please call (813) 348-1630. Special Accommodations.

This meeting is physically accessible to people with disabilities. Requests for auxiliary aids should be directed to Trish Kennedy at the Council (see ADDRESSES) at least 5 working days prior to the meeting.

Dated: November 24, 2010.
Tracey L. Thompson,
Acting Director, Office of Sustainable Fisheries, National Marine Fisheries Service.

[FR Doc. 2010-30171 Filed 11-29-10; 8:45 am]

BILLING CODE 3510-22-P